Title 3—

The President

Proclamation 8140 of May 7, 2007

Mother's Day, 2007

By the President of the United States of America

A Proclamation

Motherhood is one of the most cherished and valued roles in our society. On Mother's Day, we pay tribute to these dedicated women who give unconditional love and guidance to their children.

A mother's work requires extraordinary patience and compassion, and her example influences the formation of young lives. President Gerald Ford wrote that “there is no undertaking more challenging, no responsibility more awesome, than that of being a mother.” Mothers make great sacrifices and serve as caregivers and role models to help their children embrace dreams and aspirations. From these remarkable women, children learn character and values, the importance of giving back to their communities, and the courage to realize their potential. Mothers of military personnel provide support and encouragement while their sons and daughters defend our freedom in places far from home, and many mothers bring honor to the uniform of the United States while working to lay the foundations of peace for generations to come.

The bond between mothers and their children is one defined by love. As a mother's prayers for her children are unending, so are the wisdom, grace, and strength they provide to their children. On Mother's Day, we are reminded of the great debt we owe to our Nation's mothers for their love and devotion to their sacred duty.

To honor mothers, the Congress, by a joint resolution approved May 8, 1914, as amended (38 Stat. 770), has designated the second Sunday in May each year as “Mother's Day” and has requested the President to call for its appropriate observance. Throughout the year, and especially on this day, America's sons and daughters honor our mothers and celebrate their selfless gift of love.

NOW, THEREFORE, I, GEORGE W. BUSH, President of the United States of America, do hereby proclaim May 13, 2007, as Mother's Day. I encourage all Americans to show their gratitude and love to mothers for making a difference in the lives of their children, families, and communities. I call upon citizens to observe this day with appropriate programs, ceremonies, and activities.

IN WITNESS WHEREOF, I have hereunto set my hand this seventh day of May, in the year of our Lord two thousand seven, and of the Independence of the United States of America the two hundred and thirty-first.

[FR Doc. 07-2355

Filed 5-9-07; 10:51 am]

Billing code 3195-01-P